DEPARTMENT OF STATE

[Public Notice:10925]

Notice of Determinations; Culturally Significant Object Imported for Exhibition—Determinations: “A Universe of Things: Micky Wolfson Collects” Exhibition

SUMMARY: Notice is hereby given of the following determinations: I hereby determine that a certain object to be exhibited in the exhibition “A Universe of Things: Micky Wolfson Collects” imported from abroad for temporary exhibition within the United States, is of cultural significance. The object is imported pursuant to a loan agreement with the foreign owner or custodian. I also determine that the exhibition or display of the exhibit object at The Wolfsonian-Florida International University, Miami Beach, Florida, from on or about November 15, 2019, until on or about March 4, 2021, and at possible additional exhibitions or venues yet to be determined, is in the national interest. I have ordered that Public Notice of these determinations be published in the Federal Register.

FOR FURTHER INFORMATION CONTACT: Chi D. Tran, Paralegal Specialist, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Matthew R. Lussenhop,
Principal Deputy Assistant Secretary, Bureau of Educational and Cultural Affairs, Department of State.

[FR Doc. 2019-22397 Filed 10-11-19; 8:45 am]

BILLING CODE 4710-05-P